DEPARTMENT OF AGRICULTURE

Animal and Plant Health Inspection Service

[Docket No. APHIS-2016-0100]

Notice of Request for Revision to and Extension of Approval of an Information Collection; Importation of Table Eggs From Regions Where Newcastle Disease Exists and Exportation of Poultry and Hatching Eggs

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the importation of table eggs from regions where Newcastle disease exists and exportation of poultry and hatching eggs from the United States.

DATES: We will consider all comments that we receive on or before February 17, 2017.

ADDRESSES: You may submit comments by either of the following methods:

• Federal eRulemaking Portal: Go to http://www.regulations.gov/#!docketDetail;D=APHIS-2016-0100.

• Postal Mail/Commercial Delivery: Send your comment to Docket No. APHIS-2016-0100, Regulatory Analysis and Development, PPD, APHIS, Station 3A-03.8, 4700 River Road, Unit 118, Riverdale, MD 20737-1238.

Supporting documents and any comments we receive on this docket may be viewed at http://www.regulations.gov/#!docketDetail;D=APHIS-2016-0100 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the importation of table eggs and exportation of poultry and hatching eggs, contact Dr. Antonio Ramirez, Senior Staff Veterinary Medical Officer, NIES, APHIS, 4700 River Road, Unit 39, Riverdale MD 20737; (301) 851-3355. For copies of more detailed information on the information collection, contact Ms. Kimberly Hardy, APHIS' Information Collection Coordinator, at (301) 851-2483.

SUPPLEMENTARY INFORMATION:

Title: Importation of Table Eggs From Regions Where Newcastle Disease Exists and Exportation of Poultry and Hatching Eggs.

OMB Control Number: 0579-0328.

Type of Request: Revision to and extension of approval of an information collection.

Abstract: Under the Animal Health Protection Act (the Act, 7 U.S.C. 8301 et seq.), the Animal and Plant Health Inspection Service (APHIS) of the United States Department of Agriculture (USDA) is authorized, among other things, to prohibit or restrict the importation and interstate movement of animals and animal products to prevent the introduction into and dissemination within the United States of livestock diseases and pests. To carry out this mission, APHIS regulates the importation of animals and animal products into the United States. In addition, under the Act, APHIS collects information and conducts inspections to ensure that poultry and hatching eggs exported from the United States are free of communicable diseases.

In 9 CFR part 94, § 94.6 governs the importation of carcasses, meat, parts or products of carcasses, and eggs (other than hatching eggs) of poultry, game birds, and other birds to prevent the introduction of Newcastle disease and highly pathogenic avian influenza into the United States. Various conditions for the importation of table eggs from regions where Newcastle disease exists, including Mexico, apply and involve information collection activities, including the issuance of certificates and application of seals by foreign national or accredited veterinarians. APHIS requires certain information for the importation of table eggs that includes a certificate for table eggs from Newcastle disease-affected regions and a government seal issued by the veterinarian accredited by the national government who signed the certificate.

For the export of poultry and hatching eggs from the United States to other countries, receiving countries have specific health requirements. Most importing countries require a certification that our poultry and hatching eggs are free of diseases that are of concern to them. This certification generally must carry a USDA seal and be endorsed by an authorized APHIS veterinarian. In addition, APHIS requires owners and exporters of poultry and hatching eggs to provide health and identification information, which is supplied by completing a Veterinary Services form entitled “Certificate for Poultry and Hatching Eggs for Export.”

This notice includes a description of the information collection requirements currently approved by the Office of Management and Budget (OMB) for the importation of table eggs from regions where Newcastle disease exists under number 0579-0328, and for requirements for poultry and hatching eggs for export, under number 0579-0048. After OMB approves and combines the burden for both collections under one collection (number 0579-0328), the Department will retire number 0579-0048.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.5 hours per response.

Respondents: Owners of poultry and hatching egg operations, and exporters of these products, as well as national animal health authorities who will complete the certificate necessary to export table eggs from certain regions that may pose a risk of introducing Newcastle disease to the United States.

Estimated Annual Number of Respondents: 201.

Estimated Annual Number of Responses per Respondent: 34.

Estimated Annual Number of Responses: 6,803.

Estimated Total Annual Burden on Respondents: 3,405 hours. (Due to averaging, the total annual burden hours may not equal the product of the annual number of responses multiplied by the reporting burden per response.)

All responses to this notice will be summarized and included in the request for OMB approval. All comments will also become a matter of public record.

Done in Washington, DC, this 13th day of December 2016.
Kevin Shea,
Administrator, Animal and Plant Health Inspection Service.

[FR Doc. 2016-30456 Filed 12-16-16; 8:45 am]

BILLING CODE 3410-34-P